DEPARTMENT OF HEALTH AND HUMAN SERVICES

National Institutes of Health

National Institute of Child Health and Human Development, Amended Notice of Meeting

Notice is hereby given of a change in the meeting of the National Institute of Child Health and Human Development Special Emphasis Panel, December 4, 2007, 1 p.m. to December 4, 2007, 5 p.m., National Institutes of Health, 6100 Executive Boulevard, 5B01, Rockville, MD, 20852 which was published in the Federal Register on November 16, 2007, 72 FR 64658.

The meeting will be held on December 5, 2007. The meeting is closed to the public.

Dated: November 26, 2007.
Jennifer Spaeth,
Director, Office of Federal Advisory Committee Policy.

[FR Doc. 07-5914 Filed 12-3-07; 8:45 am]

BILLING CODE 4140-01-M